NUCLEAR REGULATORY COMMISSION

[Docket Nos. 50-334, 50-346; NRC-2017-0169]

FirstEnergy Nuclear Operating Company; Beaver Valley Power Station, Unit No. 1, Davis-Besse Nuclear Power Station, Unit No. 1

AGENCY: Nuclear Regulatory Commission.

ACTION: License amendment application; withdrawal by applicant.

SUMMARY: The U.S. Nuclear Regulatory Commission (NRC) has granted the request of FirstEnergy Nuclear Operating Company, et al., dated May 8, 2019, to withdraw its application dated May 18, 2017, as supplemented by letter dated August 23, 2018, for proposed amendments to Renewed Facility Operating License No. DPR-66 for the Beaver Valley Power Station, Unit No. 1 (BVPS-1), and to Renewed Facility Operating License No. NPF-3 for the Davis-Besse Nuclear Power Station, Unit No. 1 (DBNPS). The proposed amendments would have modified the BVPS-1 and DBNPS Renewed Facility Operating Licenses to reflect that FirstEnergy Solutions Corp. is providing the $400 million support agreement instead of FirstEnergy Corp.

DATES: May 21, 2019.

ADDRESSES: Please refer to Docket ID NRC-2017-0169 when contacting the NRC about the availability of information regarding this document. You may obtain publicly-available information related to this document using any of the following methods:

• Federal Rulemaking website: Go to http://www.regulations.gov and search for Docket ID NRC-2017-0169. Address questions about NRC docket IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

FOR FURTHER INFORMATION CONTACT: Bhalchandra K. Vaidya, Office of Nuclear Reactor Regulation, U.S. Nuclear Regulatory Commission, Washington, DC 20555-0001; telephone: 301-415-3308, email: Bhalchandra.Vaidya@nrc.gov.

• NRC's PDR: You may examine and purchase copies of public documents at the NRC's PDR, Room O1-F21, One White Flint North, 11555 Rockville Pike, Rockville, Maryland 20852.

SUPPLEMENTARY INFORMATION: The NRC has granted the request of FirstEnergy Nuclear Operating Company (FENOC) (the licensee) dated May 8, 2019 (ADAMS Accession No. ML19128A076), to withdraw its May 18, 2017, application, as supplemented by letter dated August 23, 2018 (ADAMS Accession Nos. ML17138A381 and ML18235A194, respectively), for proposed amendment to Renewed Facility Operating License No. DPR-66 for the BVPS-1, and to Renewed Facility Operating License No. NPF-3 for DBNPS. The proposed amendment would have modified the BVPS-1 and DBNPS Renewed Facility Operating Licenses to reflect that FirstEnergy Solutions Corp. is providing the $400 million support agreement instead of FirstEnergy Corp.

FENOC's May 18, 2017, request was noticed in the Federal Register on August 1, 2017 (82 FR 35840).

Dated at Rockville, Maryland, this 16th day of May 2019.
For the Nuclear Regulatory Commission.
Bhalchandra K. Vaidya,
Project Manager, Plant Licensing Branch III, Division of Operating Reactor Licensing, Office of Nuclear Reactor Regulation.

[FR Doc. 2019-10545 Filed 5-20-19; 8:45 am]

BILLING CODE 7590-01-P